COMMISSION ON CIVIL RIGHTS

Notice of Public Meeting of the Texas Advisory Committee Advisory Committee; Cancellation

AGENCY: Commission on Civil Rights.

ACTION: Notice; cancellation of virtual business meeting.

SUMMARY: The Commission on Civil Rights is cancelling the virtual business meeting of the Texas Advisory Committee.

FOR FURTHER INFORMATION CONTACT: Brooke Peery, bpeery@usccr.gov,

(202) 701-1376.

SUPPLEMENTARY INFORMATION: The Commission on Civil Rights published a notice in the Federal Register concerning a virtual business meeting of the Texas Advisory Committee. The meeting scheduled for Tuesday, September 12, 2023, at 12 p.m. Central Time is cancelled. The notice is in the Federal Register of Monday, August 28, 2023, in FR Doc. 2023-18422 in the first and second columns of page 58544.

Dated: August 29, 2023.
David Mussatt,
Supervisory Chief, Regional Programs Unit.

[FR Doc. 2023-19035 Filed 9-8-23; 8:45 am]

BILLING CODE P